DEPARTMENT OF DEFENSE

Corps of Engineers, Department of the Army

33 CFR Part 334

United States Naval Restricted Area, Manchester Fuel Depot, Manchester, WA

AGENCY: Army Corps of Engineers, DoD.

ACTION: Notice of proposed rulemaking and request for comments.

SUMMARY: The U. S. Army Corps of Engineers is proposing to establish a new restricted area in the waters of Rich Passage and Puget Sound surrounding the Manchester Fuel Depot at Manchester, Washington. The designation would ensure public safety and satisfy the Navy's security, safety, and operational requirements as they pertain to vessels at the Manchester Fuel Depot by establishing an area into which unauthorized vessels and persons may not enter.

DATES: Comments must be submitted on or before April 24, 2003.

FOR FURTHER INFORMATION CONTACT: Mr. Frank Torbett, Headquarters Regulatory Branch at (202) 761-4618 or Mr. Jack Kennedy, Corps Seattle District, at (206) 764-6907.

SUPPLEMENTARY INFORMATION: Pursuant to its authorities in Section 7 of the Rivers and Harbors Act of 1917 (40 Stat. 266; 33 U.S.C. 1) and Chapter XIX of the Army Appropriation Act of 1919 (40 Stat. 892; 33 U.S.C. 3) the Corps proposes to amend the regulations in 33 CFR Part 334 by establishing a new restricted area at § 334.1244, in the waters of Rich Passage and Puget Sound surrounding the Manchester Fuel Depot at Manchester, Washington. The points defining the proposed restricted area were selected to avoid interference with ferryboats and other users of the adjacent traffic lanes of Rich Passage, and to minimize the restricted area's interference with nearby fish pens in Clam Bay and Rich Passage. In addition to the publication of this proposed rule, the Seattle District Engineer is concurrently soliciting public comment on these proposed rules by distribution of a public notice to all known interested parties.

Procedural Requirements

a. Review Under Executive Order 12866

This proposed rule is issued with respect to a military function of the Defense Department and the provisions of Executive Order 12866 do not apply.

b. Review Under the Regulatory Flexibility Act

This proposed rule has been reviewed under the Regulatory Flexibility Act (Pub. L. 96-354), which requires the preparation of a regulatory flexibility analysis for any regulation that will have a significant economic impact on a substantial number of small entities (i.e., small businesses and small governments). The Corps expects that the economic impact of the establishment of this restricted area would have no impact on the public, no anticipated navigational hazard or interference with existing waterway traffic, and accordingly, certifies that this proposal, if adopted, will have no significant economic impact on small entities.

c. Review Under the National Environmental Policy Act

The Seattle District has prepared a preliminary Environmental Assessment (EA) for this action. The preliminary EA concluded that this action will not have a significant impact on the human environment. After receipt and analysis of comments from this Federal Register posting and the Seattle District's concurrent Public Notice, the Corps will prepare a final environmental document detailing the scale of impacts this action will have upon the human environment. The EA will be be available for review at the Seattle District office listed at the end of the FOR FURTHER INFORMATION CONTACT paragraph above.

d. Unfunded Mandates Act

This proposed rule does not impose an enforceable duty among the private sector and, therefore, is not a Federal private sector mandate and is not subject to the requirements of Section 202 or 205 of the Unfunded Mandates Act. We have also found under Section 203 of the Act that small governments will not be significantly and uniquely affected by this rulemaking.

List of Subjects in 33 CFR Part 334

Danger zones, Marine safety, Navigation (water), Restricted areas, Waterways.

For the reasons set out in the preamble, we propose to amend 33 CFR Part 334 as follows:

PART 334—DANGER ZONE AND RESTRICTED AREA REGULATIONS

1. The authority citation for Part 334 continues to read as follows:

Authority: 40 Stat. 266; (33 U.S.C. 1) and 40 Stat. 892; (33 U.S.C. 3).

2. Section 334.1244 is added to read as follows:

§ 334.1244 Rich Passage, Manchester Fuel Depot, Manchester, Washington; Naval Restricted Area.

(a) The area. The waters of Rich Passage and Puget Sound surrounding the Manchester Fuel Depot Point A, a point along the northern shore of the fuel depot at latitude 47°34′ 03″ North, longitude 122°32′ 17″ West; thence to latitude 47°34′ 00″ North, longitude 122°31′ 50″ West (Point B); thence to latitude 47°33′ 37″ North, longitude 122°31′ 50″ West (Point C); thence to latitude 47°33′ 32″ North, longitude 122°32′ 06″ West (Point D); thence to latitude 47°33′ 45″ North, longitude 122°32′ 20″ West (Point E), a point in Puget Sound on the southern shoreline of the Manchester Fuel Depot.

(b) The regulation. (1) All persons and vessels are prohibited from entering the waters within the restricted area for any reason without prior written permission from the Officer in Charge of the Manchester Fuel Depot.

(2) Mooring, anchoring, fishing, transit and/or swimming shall not be allowed within the restricted area without prior written permission from the Officer in Charge of the Manchester Fuel Depot.

(c) Enforcement. The regulation in this section shall be enforced by the Officer in Charge of the Manchester Fuel Depot, and such agencies and persons as he/she shall designate.

Approved: February 20, 2003.
Lawrence A. Lang,
Acting Chief, Operations Division, Directorate of Civil Works.

[FR Doc. 03-6967 Filed 3-24-03; 8:45 am]

BILLING CODE 3710-GM-P